DEPARTMENT OF DEFENSE

Defense Acquisition Regulations System

48 CFR Parts 207, 213, 215, 242, 252, and 253

[Docket DARS-2021-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective May 20, 2021.

FOR FURTHER INFORMATION CONTACT: Ms. Jennifer D. Johnson, Defense Acquisition Regulations System, OUSD(A&S)DPC(DARS), Room 3B938, 3060 Defense Pentagon, Washington, DC 20301-3060. Telephone 571-372-6100.

SUPPLEMENTARY INFORMATION: This final rule amends the DFARS as follows:

1. At DFARS 207.106, deletes a redundant paragragh that duplicates paragraph (S-70)(2)(ii).

2. Updates internet addresses at DFARS 213.301 paragraph (4), DFARS 242.202 paragraph (e)(1)(A), and DFARS 253.303.

3. Amends the table at DFARS 215.404-71-3, paragraph (c), to correct a typographical error in the term “Cost-plus-incentive-fee” in the “Contract Type” column; and removes unnecessary punctuation in the column titled “Designated Range (percent)”.

4. In paragraph (e) of the clause at DFARS 252.204-7007, replaces references to the Online Representations and Certifications Application (ORCA) with references to the System for Award Management (SAM); deletes duplicate text; and makes other minor editorial changes.

5. Corrects a typographical error in the title of the provision at DFARS 252.204-7017, and capitalizes the heading for DFARS 252.235-7003.

List of Subjects in 48 CFR Parts 207, 213, 215, 242, 252, and 253

Government procurement.

Jennifer D. Johnson,
Regulatory Control Officer, Defense Acquisition Regulations System.

Therefore, 48 CFR parts 207, 213, 215, 242, 252, and 253 are amended as follows:

1. The authority citation for 48 CFR parts 207, 213, 215, 242, 252, and 253 continues to read as follows:

Authority: 41 U.S.C. 1303 and 48 CFR chapter 1.

PART 207—ACQUISITION PLANNING

207.106 [Amended]

2. Amend section 207.106 by removing the duplicative paragraph (S-70)(2)(ii) following paragraph (S-70)(2)(v).

PART 213—SIMPLIFIED ACQUISITION PROCEDURES

3. Amend section 213.301 by revising paragraph (4) to read as follows:

213.301 Governmentwide commercial purchase card.

* * * * *

(4) Guidance on DoD purchase, travel, and fuel card programs is available in the “Department of Defense Government Charge Card Guidebook for Establishing and Managing Purchase, Travel, and Fuel Card Programs” at https://www.acq.osd.mil/dpap/pdi/pc/policy_documents.html. Additional guidance on the fuel card programs is available at https://www.dla.mil/Energy/Offers/Products/GovernmentFuel/.

PART 215—CONTRACTING BY NEGOTIATION

4. Amend section 215.404-71-3 by revising the paragraph (c) table to read as follows:

215.404-71-3 Contract type risk and working capital adjustment.

* * * * *

(c) * * *

Contract type | Notes | Normal value (percent) | Designated range (percent)
Firm-fixed-price, no financing | (1) | 5 | 4 to 6
Firm-fixed-price, with performance-based payments | (6) | 4 | 2.5 to 5.5
Firm-fixed-price, with progress payments | (2) | 3 | 2 to 4
Fixed-price incentive, no financing | (1) | 3 | 2 to 4
Fixed-price incentive, with performance-based payments | (6) | 2 | 0.5 to 3.5
Fixed-price with redetermination provision | (3) |  |
Fixed-price incentive, with progress payments | (2) | 1 | 0 to 2
Cost-plus-incentive-fee | (4) | 1 | 0 to 2
Cost-plus-fixed-fee | (4) | 0.5 | 0 to 1
Time-and-materials (including overhaul contracts priced on time-and-materials basis) | (5) | 0.5 | 0 to 1
Labor-hour | (5) | 0.5 | 0 to 1
Firm-fixed-price, level-of-effort | (5) | 0.5 | 0 to 1

* * * * *

PART 242—CONTRACT ADMINISTRATION AND AUDIT SERVICES

5. Amend section 242.202 by revising paragraph (e)(1)(A) to read as follows:

242.202 Assignment of contract administration.

* * * * *

(e)(1)(A) In special circumstances, a contract administration office may request support from a component not listed in the Federal Directory of Contract Administration Services Components (available via the internet at https://piee.eb.mil/pcm/xhtml/unauth/index.xhtml).

* * * * *

PART 252—SOLICITATION PROVISIONS AND CONTRACT CLAUSES

6. Amend section 252.204-7007 by—

a. Removing the clause date “(NOV 2020)” and adding “(MAY 2021)” in its place; and

b. Revising paragraph (e).

The revision reads as follows:

252.204-7007 Alternate A, Annual Representations and Certifications.

* * * * *

(e) The Offeror has completed the annual representations and certifications electronically via the SAM website at https://www.acquisition.gov/. After reviewing the SAM database information, the Offeror verifies by submission of the offer that the representations and certifications currently posted electronically that apply to this solicitation as indicated in FAR 52.204-8(c) and paragraph (d) of this provision have been entered or updated within the last 12 months, are current, accurate, complete, and applicable to this solicitation (including the business size standard applicable to the NAICS code referenced for this solicitation), as of the date of this offer, and are incorporated in this offer by reference (see FAR 4.1201); except for the changes identified below [Offeror to insert changes, identifying change by provision number, title, date]. These amended representation(s) and/or certification(s) are also incorporated in this offer and are current, accurate, and complete as of the date of this offer.

FAR/DFARS provision No. | Title | Date | Change

Any changes provided by the Offeror are applicable to this solicitation only, and do not result in an update to the representations and certifications located in the SAM database.

* * * * *

7. Amend section 252.204-7017 by revising the clause title and date to read as follows:

252.204-7017 Prohibition on the Acquisition of Covered Defense Telecommunications Equipment or Services—Representation.

* * * * *

Prohibition on the Acquisition of Covered Defense Telecommunications Equipment or Services—Representation (May 2021)

* * * * *

8. Revise the section heading for 252.235-7003 to read as follows:

252.235-7003 Frequency Authorization.

* * * * *

PART 253—FORMS

9. Revise section 253.303 to read as follows:

253.303 Agency forms.

DoD forms are available at https://www.esd.whs.mil/Directives/forms/.

[FR Doc. 2021-10584 Filed 5-19-21; 8:45 am]

BILLING CODE 5001-06-P